DEPARTMENT OF LABOR

Employment and Training Administration

Notice of Determinations Regarding Eligibility To Apply for Worker Adjustment Assistance and Alternative Trade Adjustment Assistance

In accordance with Section 223 of the Trade Act of 1974, as amended (19 U.S.C. 2273) the Department of Labor herein presents summaries of determinations regarding eligibility to apply for trade adjustment assistance for workers (TA-W) number and alternative trade adjustment assistance (ATAA) by (TA-W) number issued during the period of August 20 through August 31, 2007.

In order for an affirmative determination to be made for workers of a primary firm and a certification issued regarding eligibility to apply for worker adjustment assistance, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made for secondarily affected workers of a firm and a certification issued regarding eligibility to apply for worker adjustment assistance, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) A loss or business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance

The following certifications have been issued. The date following the company name and location of each determination references the impact date for all workers of such determination.

The following certifications have been issued. The requirements of Section 222(a)(2)(A) (increased imports) of the Trade Act have been met.

TA-W-61,933; Haines Service, Lewiston, ME: August 2, 2006.

The following certifications have been issued. The requirements of Section 222(a)(2)(B) (shift in production) of the Trade Act have been met.

TA-W-61,863; GE Ravenna Lamp Plant, Ravenna, OH: July 10, 2006; TA-W-61,928; Seatply, Inc., Jeffersonville, IN: August 1, 2006.

The following certifications have been issued. The requirements of Section 222(b) (supplier to a firm whose workers are certified eligible to apply for TAA) of the Trade Act have been met.

NONE.

The following certifications have been issued. The requirements of Section 222(b) (downstream producer for a firm whose workers are certified eligible to apply for TAA based on increased imports from or a shift in production to Mexico or Canada) of the Trade Act have been met.

NONE.

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-W-61,907; Progressive Furniture, Inc., Claremont, NC:

July 30, 2006; TA-W-61,919; Wakefield Thermal Solutions, Inc., Fall River, MA: August 1, 2006;

TA-W-61,943; WestPoint Home, Inc., Bath Products Division, Leased Workers From Ambassador Personal Services, Valley, AL: August 1, 2006;

TA-W-61,955; Horizon Dental Lab, LLC, Rochester, NY: August 1, 2006;

TA-W-61,956; Toledo Commutator, Owosso, MI: October 5, 2006

TA-W-62,039; Hole In None Hosiery Mills, Inc., Burlington, NC: August 22, 2006;

TA-W-61,704; GTECH Corporation, On-Site Leased Workers of Kelly Services, West Greenwich, RI: June 15, 2006;

TA-W-61,704A; GTECH Corporation, On-Site Leased Workers of Kelly Services, Coventry, RI: June 15, 2006;

TA-W-61,755; Troxel Products, LLC, Flexible Flyer Division, West Point, MS: June 25, 2006;

TA-W-61,847; Cedar Ideas, Inc., Oakfield, ME: July 19, 2006

TA-W-61,872; Memphis Hardwood Flooring Company, Grenada, MS: July 12, 2006;

TA-W-61,714; Merrimac Industries, Inc, West Caldwell, NJ: June 7, 2006;

TA-W-61,974; Ford Motor Company, Kentucky Truck Plant, Louisville, KY: August 2, 2006.

The following certifications have been issued. The requirements of Section 222(a)(2)(B) (shift in production) and Section 246(a)(3)(A)(ii) of the Trade Act have been met.

TA-W-61,663; Black and Decker (U.S.), Inc., McAllen, TX: June 11, 2006;

TA-W-61,717; Burner Systems International, Inc., A Subsidiary of Gas Components Group, Chattanooga, TN: June 20, 2006;

TA-W-61,743; Risdon International, Inc., Watertown, CT: June 22, 2006;

TA-W-61,785; Risdon International, Inc., Middletown, NY: July 3, 2006;

TA-W-61,785A; Risdon International, Inc., Danbury, CT: July 3, 2006;

TA-W-61,830; Charleston Hosiery, Inc., Currently Know As Renfro Charleston, LLC, Fort Payne, AL: April 8, 2007;

TA-W-61,874; Automotive Resources, Inc., Workers at Recon Automotive Remanufacturer, Leased Workers of Randstad, Philadelphia, PA: July 9, 2006;

TA-W-61,883; Pottery Collaborative LLC, Efficiency Staffing Services, Haverhill, MA: July 10, 2006;

TA-W-61,887; AZ Automotive, Working On-Site at General Motors Corp., Roseville, MI: July 24, 2006;

TA-W-61,910; Trico Technologies Corporation, Packaging Department, Brownsville, TX: July 30, 2006;

TA-W-61,926; Wellstone Investors, LLC, Eufaula Staffing, Staffing Solutions, Lakeside I Plant, Eufaula, AL: August 1, 2006;

TA-W-61,926A; Wellstone Investors, LLC, Corporate Office, Manufacturing Support Group, Greenville, SC: August 1, 2006;

TA-W-61,926B; Wellstone Investors, LLC, Gaffney Plant, Manufacturing Support Group, Gaffney, SC: August 1, 2006;

TA-W-61,935; Delta Apparel, Inc., Fayette, AL: August 3,

TA-W-61,953; Eaton Corporation, Filtration Div. Formerly RPA Technologies, Portage, MI: August 6, 2007;

TA-W-61,964; Reed Manufacturing Co., Inc., Tupelo, MS: August 8, 2006;

TA-W-61,964A; Reed Manufacturing Co., Inc., Franklin, TN: August 8, 2006;

TA-W-62,014; Finotex, Woven-Printed Labels Division, Hialeah, FL: August 13, 2006;

TA-W-61,841; Akerue Industries LLC, dba Kay Home Products, On-Site Leased Workers From Tandem Staffing Solutions, Antioch, IL: July 18, 2006;

TA-W-61,869; San Jose Mercury News, Composing Department, San Jose, CA: July 20, 2006;

TA-W-61,882; Spang and Company, Magnetics Div., Customer Service Dept., Pittsburgh, PA: July 16, 2006;

TA-W-61,921; Whaling Manufacturing Co., Inc., Fall River, MA: June 2, 2007;

TA-W-61,923; CHF Industries, Inc., Fall River Division, Fall River, MA: August 1, 2006;

TA-W-61,932; Eaton Corporation, Truck Components, Aftermarket Division TCO, Galesburg, MI: August 3, 2006;

TA-W-61,939; International Tooling LLC, Grand Rapids, MI: August 3, 2006;

TA-W-61,944; Optical Communication Products, Inc., Woodland Hills, CA: August 6, 2006;

TA-W-61,969; Nichols and Stone Company, Gardner, MA: August 8, 2006;

TA-W-62,022; Irwin Industrial Tools, Leased Workers of Work-A-While & Advance Services, Inc., DeWitt, NE: August 21, 2006;

TA-W-62,072; Block Corporation, American Trouser Division, Columbus, MS: August 29, 2006.

The following certifications have been issued. The requirements of Section 222(b) (supplier to a firm whose workers are certified eligible to apply for TAA) and Section 246(a)(3)(A)(ii) of the Trade Act have been met.

TA-W-61,831; Commercial Vehicle Group, Global Truck Division, On-Site Leased Workers From Volt Services and Terra, Seattle, WA: July 13, 2006;

TA-W-61,954; Unifi Kinston, LLC, Sub. of Unifi, Polyester Poy Spinning Div. Mundy, etc, Kinston, NC: December 10, 2006.

The following certifications have been issued. The requirements of Section 222(b) (downstream producer for a firm whose workers are certified eligible to apply for TAA based on increased imports from or a shift in production to Mexico or Canada) and Section 246(a)(3)(A)(ii) of the Trade Act have been met.

TA-W-61,710; Simkins Industries, Inc., Ridgefield, NJ: June 19, 2006.

Negative Determinations for Alternative Trade Adjustment Assistance

In the following cases, it has been determined that the requirements of 246(a)(3)(A)(ii) have not been met for the reasons specified.

The Department has determined that criterion (1) of Section 246 has not been met. Workers at the firm are 50 years of age or older.

TA-W-61,933; Haines Service, Lewiston, ME;

TA-W-61,928; Seatply, Inc., Jeffersonville, IN.

The Department has determined that criterion (2) of Section 246 has not been met. Workers at the firm possess skills that are easily transferable.

TA-W-61,863; GE Ravenna Lamp Plant, Ravenna, OH.

The Department has determined that criterion (3) of Section 246 has not been met. Competition conditions within the workers' industry are not adverse.

NONE.

Negative Determinations for Worker Adjustment Assistance and Alternative Trade Adjustment Assistance

In the following cases, the investigation revealed that the eligibility criteria for worker adjustment assistance have not been met for the reasons specified.

Because the workers of the firm are not eligible to apply for TAA, the workers cannot be certified eligible for ATAA.

The investigation revealed that criteria (a)(2)(A)(I.A.) and (a)(2)(B)(II.A.) (employment decline) have not been met.

NONE.

The investigation revealed that criteria (a)(2)(A)(I.B.) (Sales or production, or both, did not decline) and (a)(2)(B)(II.B.) (shift in production to a foreign country) have not been met.

TA-W-61,900; Borg Warner, Morse TEC Division, Sallisaw, OK.

TA-W-62,007; VanSeal Corporation, Formerly Know as John Crane, Inc., Vandalia, IL.

The investigation revealed that criteria (a)(2)(A)(I.C.) (increased imports) and (a)(2)(B)(II.B.) (shift in production to a foreign country) have not been met.

TA-W-61,240; Graphic Packaging International, Consumer Products Division, Wausau, WI.

TA-W-61,670; Ferry Cap and Set Screw Company, Cleveland, OH.

TA-W-61,730; Joy Mining Machinery, Inc., Franklin, PA.

TA-W-61,837; St. Paul Metalcraft, Leggett and Platt Aluminum Group, Arden Hills, MN.

TA-W-61,861; De-Sta-Co CPI Products, Inc., Automotive Division, Charlevoix, MI.

TA-W-61,876; Neenah Paper FR, LLC, Urbana, OH.

TA-W-61,958; Philip Morris Products International, LLC, McKenney, VA.

The workers' firm does not produce an article as required for certification under Section 222 of the Trade Act of 1974.

TA-W-61,767; Outsource Partners International, Inc., Houston, TX.

TA-W-61,877; Family Entertainment, dba Sherwood Forest Family Golf, Conyers, GA.

TA-W-61,918; The Apparel Group, Foxcroft Sportswear Division, Fall River, MA.

TA-W-61,940; Vertex Pharmaceuticals, Inc., Cambridge, MA.

The investigation revealed that criteria of Section 222(b)(2) has not been met. The workers' firm (or subdivision) is not a supplier to or a downstream producer for a firm whose workers were certified eligible to apply for TAA.

NONE.

I hereby certify that the aforementioned determinations were issued during the period of August 20 through August 31, 2007. Copies of these determinations are available for inspection in Room C-5311, U.S. Department of Labor, 200 Constitution Avenue, NW., Washington, DC 20210, during normal business hours or will be mailed to persons who write to the above address.

Dated: September 5, 2007.
Ralph Dibattista,
Director, Division of Trade Adjustment Assistance.

[FR Doc. E7-17884 Filed 9-10-07; 8:45 am]

BILLING CODE 4510-FN-P